DEPARTMENT OF TRANSPORTATION

National Highway Traffic Safety Administration

[Docket No. NHTSA-2019-0129; Notice 1]

Transamerica Tire Co. Ltd., Receipt of Petition for Decision of Inconsequential Noncompliance

AGENCY: National Highway Traffic Safety Administration (NHTSA), Department of Transportation (DOT).

ACTION: Receipt of petition.

SUMMARY: Transamerica Tire Co. Ltd. (Transamerica) has determined that certain Transeagle ST tires manufactured by Shandong Yinbao Tyre (Yinbao) do not fully comply with Federal Motor Vehicle Safety Standard (FMVSS) No. 119, New Pneumatic Tires for Motor Vehicles with a GVWR of More than 4,536 kilograms (10,000 pounds) and Motorcycles. Transamerica, on behalf of Yinbao, filed a noncompliance report dated November 21, 2019. Transamerica petitioned NHTSA on November 25, 2019, and amended its petition on April 22, 2021, for a decision that the subject noncompliance is inconsequential as it relates to motor vehicle safety. This document announces receipt of Transamerica's petition.

DATES: The closing date for comments on the petition is December 20, 2021.

ADDRESSES: Interested persons are invited to submit written data, views, and arguments on this petition. Comments must refer to the docket number and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview

Transamerica has determined that certain tires manufactured by Yinbao do not fully comply with paragraphs S6.5 and S6.5(b) of FMVSS No. 119, New Pneumatic Tires for Motor Vehicles with a GVWR of More than 4,536 kilograms (10,000 pounds) and Motorcycles (49 CFR 571.119). Transamerica, on behalf of Yinbao, filed a noncompliance report dated November 21, 2019, pursuant to 49 CFR part 573, Defect and Noncompliance Responsibility and Reports. Transamerica also petitioned NHTSA on November 25, 2019, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt, of Transamerica's petition, is published under 49 U.S.C. 30118 and 30120 and does not represent any agency decision or other exercises of judgment concerning the merits of the petition.

II. Tires Involved

Approximately 9,551 Transeagle ST radial tires, sizes ST235/85R16, ST235/80R16, and ST225/90R16, manufactured between September 23, 2017, and August 10, 2019, are potentially involved.

III. Noncompliance

Transamerica explains that the noncompliance is that the subject tires were inadvertently labeled with a Tire Identification Number (TIN) that contains an incorrect manufacturer's code and, therefore, do not meet the requirements specified in paragraph S6.5(b) of FMVSS No. 119. The manufacturer's code is the part of the TIN that is comprised of a group of six symbols located immediately following the three-symbol plant code and before the date code, for all new tires. In addition, the manufacturer's code contains an additional character at the end of the labeled sequence, inadvertently producing a 14 character TIN instead of 8-13 character TIN. Specifically, the subject tires were incorrectly marked with the TIN as “1BP TTFEFTL” whereas they should have been marked as follows:

• ST235/85R16: “1BP TTFEFT”

• ST235/80R16: “1BP TFEFTL”

• ST225/90R16: “1BP TTFEF” ¹

¹ In its amended petition submitted on April 22, 2021, Transamerica acknowledges that this TIN provided as the correction to these tires is also noncompliant because it does not contain six symbols as required.

IV. Rule Requirements

Paragraphs S6.5 and S6.5(b) of FMVSS No. 119 include the requirements relevant to this petition. These requirements state that each tire shall be marked on one or both sidewalls with the TIN that meets the requirements of 49 CFR part 574.

V. Summary of Transamerica's Petition

The following views and arguments presented in this section, “V. Summary of Transamerica's Petition,” are the views and arguments provided by Transamerica. They have not been evaluated by the Agency and do not reflect the views of the Agency.

Transamerica describes the subject noncompliance and contends that the noncompliance is inconsequential as it relates to motor vehicle safety.

Background

On October 21, 2019, Transamerica received a letter from NHTSA explaining that NHTSA's Office of Vehicle Safety Compliance “has received information alleging that at least one of the tires manufactured by [Yinbao] and imported by [Transamerica] may not be in compliance with [FMVSS] No. 119.” Accordingly, the letter included a “photo showing a labeling failure on the tires branded Transeagle ST radial size 235/85R16.” Specifically, it is alleged that “[t]he tires appear to have an improper 14 character [TIN] instead of the 8-13 character TIN required by FMVSS No. 119.”

Transamerica offers the following views and arguments in support of its petition:

1. Upon the receipt of NHTSA's inquiry, Transamerica conducted an investigation to determine the validity of the allegations and the universe of tires affected by such noncompliance. Transamerica found that a total number of 9,551 tires branded Transeagle ST radial tires size ST235/85R16, ST235/80R16, and ST225/90R16 contained an incorrect manufacturer's code in their TIN labels molded on the sidewall of the tires. Transamerica says that except for the incorrect manufacturer's code, all other information labeled on the tires was correct, including the plant information and the date of production, and that the Transeagle ST tires otherwise comply with all applicable standards. Both Yinbao and Transamerica state that they are not aware of any crashes, injuries, customer complaints, or field reports in connection with this noncompliance.

2. Transamerica claims that the noncompliance is inconsequential because the subject tires meet all FMVSS and performance standards, the noncompliance is one of labeling, and the inaccurate manufacturer's code would not affect the manufacturer's or the consumers' ability to identify them should the tires be recalled for performance related noncompliance.

a. The sole noncompliance at issue relates to an inadvertently labeled manufacturer's code in the TIN on certain tires. While the subject tires contain an improper manufacturer's code, they are in all other respects properly labeled and meet all performance requirements under FMVSS. Inaccurate manufacturer's code identification upon which a consumer would not reasonably be expected to rely, does not have any effect on the operational safety of the vehicles on which these tires are mounted.

b. Furthermore, the inaccurate manufacturer's code identification will not affect Transamerica's, Yinbao's, or the consumers' ability to identify the subject tires, should they be recalled for performance related to the noncompliance. First, the tires' TIN bears the correct plant's code and date code, and is still tied to Yinbao's manufacturing facility. Thus, Transamerica, Yinbao, or the consumers would be reasonably able to identify the subject tires in the event of a recall.

c. Transamerica states that they have taken measures to ensure that the tires can be registered correctly. There is a “Tire Registration” option on Transamerica's website where consumers can register their TIN and contact information. Transamerica has taken steps to ensure that the incorrect TINs with the additional characters can also be registered for any future recalls or warranty issues. Furthermore, Transamerica has already corrected the molds at the applicable manufacturing plant, such that no additional tires were fabricated with the noncompliance. Transamerica stated that they will also improve their internal processes to prevent future TIN errors.

d. Transamerica states that NHTSA has previously granted petitions for inconsequential noncompliance where TIN information labels are incorrect or missing information and that granting this petition would be consistent with NHTSA's prior decisions on petitions involving tires labeled with inaccurate TIN information. Transamerica cites the following petitions:

• Michelin North America, Inc., Grant of Petition for Decision of Inconsequential Noncompliance, 81 FR 76412 (November 2, 2016).

• Cooper Tire & Rubber Company, Grant of Application for Decision of Inconsequential Noncompliance, 63 FR 29059 (May 27, 1998).

• Tireco, Inc., Grant of Petition for Decision of Inconsequential Noncompliance, 80 FR 66614 (October 29, 2015).

• Cooper Tire & Rubber Company, Grant of Petition for Decision of Inconsequential Noncompliance, 71 FR 4397 (January 26, 2006).

• Cooper Tire & Rubber Company, Grant of Petition for Decision of Inconsequential Noncompliance, 82 FR 52966 (November 15, 2017).

• Yokohama Tire Corporation, Grant of Petition for Decision of Inconsequential Noncompliance, 84 FR 64403 (November 21, 2019).

Transamerica concludes by again contending that the subject noncompliance is inconsequential as it relates to motor vehicle safety, and asking that its petition to be exempted from providing notification of the noncompliance, as required by 49 U.S.C. 30118, and a remedy for the noncompliance, as required by 49 U.S.C. 30120, be granted.

Transamerica's complete petition and all supporting documents are available by logging onto the Federal Docket Management System (FDMS) website at: https://www.regulations.gov and following the online search instructions to locate the docket number listed in the title of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that Transamerica and Yinbao no longer controlled at the time it determined that the noncompliance existed. However, any decision on this petition does not relieve tire distributors and dealers of the prohibitions on the sale, offer for sale, or introduction or delivery for introduction into interstate commerce of the noncompliant tires under their control after Transamerica and Yinbao notified them that the subject noncompliance existed.

(Authority: 49 U.S.C. 30118, 30120: delegations of authority at 49 CFR 1.95 and 501.8)

Otto G. Matheke III,
Director, Office of Vehicle Safety Compliance.

[FR Doc. 2021-25112 Filed 11-17-21; 8:45 am]

BILLING CODE 4910-59-P